DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for 2020 Census Field Tests to Automate Field Data Collection Activities.

OMB Control Number: 0607-0971.

Form Number(s): TBD.

Type of Request: Reinstatement, without change, of a previously approved collection for which approval has expired.

Number of Respondents: 36,000.

Average Hours per Response: 0.167.

Burden Hours: 6000.

Needs and Uses: All activities described directly support the Census Bureau's efforts to maintain or improve quality while controlling costs in the 2020 Census. The information collected from households during these tests is to research new technologies to plan the 2020 Census and motivating messages to encourage respondents to participate. The Census Bureau will not publish any tabulations or population estimates from the substantive results of tests conducted under this clearance. However, methodological papers may be written that include some tallies of response characteristics or problems, and responses may be used to inform future research studies building upon the results of these early tests.

Affected Public: Individuals and households.

Frequency: Once.

Respondent's Obligation: Mandatory.

Legal Authority: Title 13, Section 9.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2016-01395 Filed 1-25-16; 8:45 am]

BILLING CODE 3510-07-P